FEDERAL MINE SAFETY AND HEALTH REVIEW COMMISSION

Sunshine Act Meeting

February 15, 2006.

Time and Date: 10 a.m., Thursday, February 23, 2006.

Place: The Richard V. Backley Hearing Room, 9th Floor, 601 New Jersey Avenue, NW., Washington, DC.

Status: Open.

Matters to be Considered: The Commission will consider and act upon the following in open session: Secretary of Labor v. Plateau Mining Corp., Docket Nos. WEST 2002-207 and WEST 2002-278. (Issues include whether the judge correctly determined that Plateau's bleeder system was not functioning in accordance with the requirements of 30 CFR 75.334(b)(1); that Plateau's alleged violation of section 75.334(b)(1) was of a significant and substantial nature; that Plateau violated 30 CFR 75.370(a) because its ventilation plan did not include a breached undercast; and that an operator may be held to have violated section 75.334(b)(1) even if it has complied with the terms of its ventilation plan.)

Any persons attending this meeting who requires special accessibility features and/or auxiliary aids, such as sign language interpreters, must inform the Commission in advance of those needs, subject to 29 CFR 2706.150(a)(3) and § 2706.160(d).

Contact Person For More Info: Jean Ellen, (202) 434-9950 / (202) 708-9300 for TDD Relay / 1-800-877-8339 for toll free.

Jean H. Ellen,
Chief Docket Clerk.

[FR Doc. 06-1782 Filed 2-22-06; 11:18 am]

BILLING CODE 6735-01-M